SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before February 3, 2015.

ADDRESSES: Send all comments to Craig Heilman, Director of Veteran Programs, Office of Veteran Business Development, Small Business Administration, 409 3rd Street, 5th Floor, Washington, DC 20416.

FOR FURTHER INFORMATION CONTACT: Tyrenna Tolbert, Program Support Specialist, Office of Veteran Business Development, tyrenna.tolbert@sba.gov, 202-205-7526, or Curtis B. Rich, Management Analyst, 202-205-7030, curtis.rich@sba.gov.

SUPPLEMENTARY INFORMATION: Boots to Business is an entrepreneurial education initiative offered by the U.S. Small Business Administration (SBA) as a career track within the Department of Defense's revised Training Assistance Program called Transition Goals, Plans, Success (Transition GPS). The curriculum provides valuable assistance to transitioning service members exploring self-employment opportunities by leading them through the key steps for evaluating business concepts and the foundational knowledge required for developing a business plan. Participants are also introduced to SBA resources available to help access startup capital and additional technical assistance.

This form facilitates online registration for the Boots to Business course for eligible service members and their spouses. The information collected provides pertinent data to the management and participation of the course in addition to assisting instructors to better tailor the individual classes based on the experience and interests of the participants.

Solicitation of Public Comments:

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection:

Title: Boots to Business Registration.

Description of Respondents: Transitioning service members and spouses.

Total Estimated Annual Responses: 10,000.

Total Estimated Annual Hour Burden: 1,667 hours.

Curtis B. Rich,
Management Analyst.

[FR Doc. 2014-28512 Filed 12-4-14; 8:45 am]

BILLING CODE 8025-01-P